DEPARTMENT OF COMMERCE

International Trade Administration

[C-570-959]

Certain Coated Paper Suitable for High-Quality Print Graphics Using Sheet-Fed Presses From the People's Republic of China: Rescission of Countervailing Duty Administrative Review; 2017

AGENCY: Enforcement and Compliance, International Trade Administration, Department of Commerce.

SUMMARY: The Department of Commerce (Commerce) is rescinding the administrative review of the countervailing duty (CVD) order on certain coated paper suitable for high-quality print graphics using sheet-fed presses (coated paper) from the People's Republic of China (China) for the period of review (POR) January 1, 2017, through December 31, 2017, based on the timely withdrawal of the requests for review.

DATES: Applicable April 29, 2019.

FOR FURTHER INFORMATION CONTACT: Mary Kolberg, AD/CVD Operations, Office I, Enforcement and Compliance, International Trade Administration, U.S. Department of Commerce, 1401 Constitution Avenue NW, Washington, DC 20230; telephone: (202) 482-1785.

SUPPLEMENTARY INFORMATION:

Background

On November 1, 2018, Commerce published the notice of opportunity to request an administrative review of the CVD order on coated paper from China for the POR January 1, 2017, through December 31, 2017.¹ On November 30, 2018, Verso Corporation (Verso) and Sappi North America (Sappi), domestic producers of subject merchandise, and the United Steel, Paper and Forestry, Rubber, Manufacturing, Energy, Allied Industrial and Service Workers Union, AFL-CIO, CLC (USW), a union representing workers engaged in the production of coated paper (collectively, the petitioner), requested that Commerce conduct an administrative review of Shandong Sun Paper Industry Joint Stock Co., Ltd., Yanzhou Tianzhang Paper Industry Co., Ltd., .Shandong International Paper and Sun Coated Paperboard Co., Ltd., International Paper and Sun Cartonboard Co., Ltd., Gold East Paper (Jiangsu) Co., Ltd., Gold Huasheng Paper Co., Ltd., Gold East (Hong Kong) Trading Co., Ltd., Ningbo Zhonghua Paper Co., Ltd., Ningbo Asia Pulp and Paper Co., Ltd., Hainan Jinhai Pulp and Paper Co., Ltd., Shandong Huatai Paper Industry Shareholding Co., Ltd., Chenming HK, Ltd., Jingxi Chenming Paper Co., Ltd., and Sinar Mas Paper (China) Investment Co. Ltd.² No other parties requested an administrative review of these companies, or any other companies. On February 6, 2019, Commerce published in the Federal Register a notice of initiation of an administrative review of the countervailing duty order on coated paper from China covering the POR.³ On March 19, 2019, the petitioner timely withdrew its request for administrative review of all the companies named in its request.⁴

¹ See Antidumping or Countervailing Duty Order, Finding, or Suspended Investigation; Opportunity to Request Administrative Review, 83 FR 54912 (November 1, 2018).

² See Letter from the petitioner, “Coated Paper Suitable for High-Quality Print Graphics Using Sheet-Fed Presses from the People's Republic of China: Request for Administrative Review,” dated November 30, 2018.

³ See Initiation of Antidumping and Countervailing Duty Administrative Reviews, 84 FR 2159 (February 6, 2019). The notice of initiation was delayed as a result of the partial shutdown of the Federal Government from December 22, 2018 through the resumption of normal operations on January 28, 2019.

⁴ See Letter from the petitioner, “Coated Paper Suitable for High-Quality Print Graphics Using Sheet-Fed Presses from the People's Republic of China: Withdrawal of Request for Administrative Review,” dated March 19, 2019.

Rescission of Review

Pursuant to 19 CFR 351.213(d)(1), Commerce will rescind an administrative review, in whole or in part, if the party or parties that requested a review withdraws the request within 90 days of the publication date of the notice of initiation of the requested review. As noted above, all requests for review were withdrawn, and the petitioner withdrew their requests within 90 days of the publication date of the notice of initiation. No other parties requested an administrative review of the order. Therefore, in accordance with 1 9 CFR 351.213(d)(1), we are rescinding this review in its entirety.

Assessment

Commerce will instruct U.S. Customs and Border Protection (CBP) to assess countervailing duties on all appropriate entries of coated paper from China. Countervailing duties shall be assessed at rates equal to the cash deposit of estimated countervailing duties required at the time of entry, or withdrawal from warehouse, for consumption in accordance with 19 CFR 351.212(c)(1)(i). Commerce intends to issue appropriate assessment instructions to CBP 15 days after the date of publication of this notice of rescission of administrative review.

Notifications

This notice also serves as a final reminder to parties subject to administrative protective order (APO) of their responsibility concerning the return or destruction of proprietary information disclosed under an APO in accordance with 19 CFR 351. 305(a)(3). Timely written notification of the return or destruction of APO materials, or conversion to judicial protective order, is hereby requested. Failure to comply with the regulations and terms of an APO is a sanctionable violation.

This notice is issued and published in accordance with sections 751(a)(l) and 777(i)(1) of the Tariff Act of 1930, as amended, and 19 C FR 351.213(d)(4).

Dated: April 22, 2019.
James Maeder,
Associate Deputy Assistant Director for Antidumping and Countervailing Duty Operations performing the duties of Deputy Assistant Secretary for Antidumping and Countervailing Duty Operations.

[FR Doc. 2019-08574 Filed 4-26-19; 8:45 am]

BILLING CODE 3510-DS-P